DEPARTMENT OF THE INTERIOR

National Park Service

[NPS-WASO-NAGPRA-NPS0033125; PPWOCRADN0-PCU00RP14.R50000]

Notice of Inventory Completion: American Museum of Natural History, New York, NY

AGENCY: National Park Service, Interior.

ACTION: Notice.

SUMMARY: The American Museum of Natural History (AMNH) has completed an inventory of human remains and an associated funerary object, in consultation with the appropriate Indian Tribes or Native Hawaiian organizations and has determined that there is no cultural affiliation between the human remains and associated funerary object, and any present-day Indian Tribes or Native Hawaiian organizations. Representatives of any Indian Tribe or Native Hawaiian organization not identified in this notice that wish to request transfer of control of these human remains and associated funerary object should submit a written request to the American Museum of Natural History. If no additional requestors come forward, transfer of control of the human remains and associated funerary object to the Indian Tribes or Native Hawaiian organizations stated in this notice may proceed.

DATES: Representatives of any Indian Tribe or Native Hawaiian organization not identified in this notice that wish to request transfer of control of these human remains and associated funerary object, should submit a written request with information in support of the request to the American Museum of Natural History at the address in this notice by January 18, 2022.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the completion of an inventory of human remains and an associated funerary object under the control of the American Museum of Natural History, New York, NY. The human remains and associated funerary objects were removed from Mercer County, NJ.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains was made by the American Museum of Natural History's professional staff in consultation with representatives of the Delaware Nation, Oklahoma; Delaware Tribe of Indians; and the Stockbridge-Munsee Community, Wisconsin (hereafter referred to as “The Tribes”).

History and Description of the Remains

Human remains representing, at minimum, three individuals were removed from Trenton, Mercer County, NJ, most likely by Ernest Volk during an AMNH-sponsored expedition in 1899. They were likely accessioned that same year. No catalog number for the human remains of these three individuals could be found, but as they were housed with catalogued human remains from locales within the Abbott Farm site in Mercer County, NJ, they are assumed to have also been collected from the Abbott Farm site. The human remains belong to two adults and one subadult. No known individuals were identified. No associated funerary objects are present.

In 1899, human remains representing, at minimum, two individuals, were removed from a railroad cut located south of Trenton, Mercer County, Delaware Valley, NJ, by Ernest Volk during an AMNH-sponsored expedition. AMNH accessioned the human remains that same year. The human remains belong to two adults whose sex is indeterminate. No known individuals were identified. No associated funerary objects are present.

In 1899, human remains representing, at minimum, two individuals, were removed from Bilbee's sandpit, located south of Trenton, Mercer County, NJ, by Ernest Volk during an AMNH-sponsored expedition. AMNH accessioned the human remains that same year. The human remains belong to one adult male and one adult who is likely female. No known individuals were identified. No associated funerary objects are present.

In 1900, human remains representing, at minimum, one individual, were removed from Bilbee's sandpit, located south of Trenton, Mercer County, NJ, by Ernest Volk during an AMNH-sponsored expedition. AMNH accessioned the human remains that same year. The human remains belong to one adult who is likely male. No known individual was identified. No associated funerary objects are present.

In 1899, human remains representing, at minimum, one individual, were removed from “River View Cemetery,” located south of Trenton, Mercer County, NJ, by Ernest Volk during an AMNH-sponsored expedition. AMNH accessioned the human remains that same year. The human remains belong to one adult of indeterminate sex. No known individual was identified. No associated funerary objects are present.

In 1899, human remains representing, at minimum, 13 individuals, were removed from Abbott Farm in Mercer County, NJ, by Ernest Volk during an AMNH-sponsored expedition. AMNH accessioned the human remains and an associated funerary object that same year. The human remains belong to one adult male, eight adults of indeterminate sex, three subadults, and one individual whose age and sex are indeterminate. No known individuals were identified. The one associated funerary object is a conical object in two pieces.

In 1914, human remains, representing, at minimum, two individuals, were removed from Abbott Farm in Trenton, Mercer County, NJ, by Leslie Spier and Alanson Skinner as part of a museum expedition. AMNH accessioned the human remains that same year. The human remains, which were recovered from Trench 1, are highly fragmentary. They belong to two adults whose sex is indeterminate. No known individuals were identified. No associated funerary objects are present.

Determinations Made by the American Museum of Natural History

Officials of the American Museum of Natural History have determined that:

• Pursuant to 25 U.S.C. 3001(9), the 24 human remains described in this notice are Native American based on their archeological context and Museum records.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary object should submit a written request with information in support of the request to Nell Murphy, American Museum of Natural History, Central Park West at 79th Street, New York, NY 10024, telephone (212) 769-5837, email nmurphy@amnh.org, by January 18, 2022. After that date, if no additional requestors have come forward, transfer of control of the human remains and associated funerary object to The Tribes may proceed.

The American Museum of Natural History is responsible for notifying The Tribes that this notice has been published.

Dated: December 10, 2021.
Melanie O'Brien,
Manager, National NAGPRA Program.

[FR Doc. 2021-27354 Filed 12-16-21; 8:45 am]

BILLING CODE 4312-52-P